DEPARTMENT OF TRANSPORTATION

Federal Aviation Administration

Public Notice for Waiver of Aeronautical Land-use Assurance; DuPage Airport, West Chicago, IL

AGENCY: Federal Aviation Administration, DOT.

ACTION: Notice of intent of waiver with respect to land.

SUMMARY: The Federal Aviation Administration (FAA) is considering a proposal to change a portion of airport land from aeronautical use to non-aeronautical use and to authorize the sale of the airport property. The proposal consists of all or portions of Parcels 209A, 213, 217, 218, 219, 220, 221, 314, 315, 401, 402, 404, 406, 407, 408, 409, 410, 411, 412, 413, 414, and 416, totaling 605.3 acres. Presently the land is vacant and used as open land for control of FAR Part 77 surfaces and compatible land use and is not needed for aeronautical use, as shown on the Airport Layout Plan. The Parcels were acquired without Federal participation. It is the intent of the DuPage Airport Authority, as owner and operator of the DuPage Airport (DPA) to sell the aforementioned Parcels (605.3 Acres) in fee to the DuPage County (22.7 acres for Kress Creek floodplain control), the City of West Chicago (37.7 acres for the ownership and maintenance of existing roadways), the Illinois Department of Transportation (11.3 acres for the improvement of State Route 38), and to private entities (533.6 acres for corporate/industrial development). This notice announces that the FAA is considering the proposal to authorize the disposal of the subject airport property at the DuPage Airport, West Chicago, IL. Approval does not constitute a commitment by the FAA to financially assist in disposal of the subject airport property nor a determination that all measures covered by the program are eligible for grant-in-aid funding from the FAA. The disposition of proceeds from the disposal of the airport property will be in accordance with FAA's Policy and Procedures Concerning the Use of Airport Revenue, published in the Federal Register on February 16, 1999.

In accordance with section 47107(h) of Title 49, United States Code, this notice is required to be published in the Federal Register 30 days before modifying the land-use assurance that requires the property to be used for an aeronautical purpose.

DATES: Comments must be received on or before January 30, 2012.

FOR FURTHER INFORMATION CONTACT: Richard Pur, Program Manager, 2300 East Devon Avenue, Des Plaines, IL 60018. Telephone Number (847) 294-7527/Fax Number (847) 294-7046. Documents reflecting this FAA action may be reviewed at this same location by appointment or at the DuPage Airport, 2700 International Drive, Suite 200, West Chicago, IL 60185.

SUPPLEMENTARY INFORMATION: The various parcels were combined into three large parcels for legal description purposes with exceptions for the portions of those parcels that are being retained by the DAA. Parcel A includes portions of Parcels 209A (SOUTH OF THE Union Pacific Railroad, 231 (south of the Union Pacific Railroad) and all of Parcels 217, 218, 219, 220, 221, 314 and 315 as per the Exhibit A. Parcel B includes Parcels 401, 402, 404, 406, 407, 408, 409, 410, 411, 414 (north of Fabyan Parkway), and 416 as per the Exhibit A. Parcel C includes Parcels 412, 413, and 414 (south of Fabyan Parkway) as per the Exhibit A. Following is a legal description of the property (located in DuPage County, Illinois, and described as follows:

Parcel A

THAT PART OF SECTION'S 7, 8, 17 AND 18 IN TOWNSHIP 39 NORTH, RANGE 9 EAST OF THE THIRD PRINCIPAL MERIDIAN IN DUPAGE COUNTY, ILLINOIS, DESCRIBED AS FOLLOWS: BEGINNING AT THE FOUND CAST IRON MONUMENT MARKING THE WEST QUARTER CORNER OF SAID SECTION 18, PER DOCUMENT NO. 1633400, RECORDED MARCH 23, 1983 IN KANE COUNTY, ILLINOIS; THENCE EASTERLY ALONG THE EAST—WEST CENTERLINE OF SAID SECTION 18, HAVING AN ILLINOIS EAST ZONE GRID BEARING OF NORTH 89 DEGREES 06 MINUTES 02 SECONDS EAST 1959.41 FEET (1950.30 RECORD), ALONG SAID EAST—WEST CENTERLINE, SAID LINE ALSO BEING THE NORTHERLY LINE OF BATAVIA BUSINESS PARK SUBDIVISION RECORDED JUNE 30, 2000 AS DOCUMENT NO. R2000-099708, AND THE NORTHERLY LINE OF THE LANDS OF THE UNITED STATES ATOMIC ENERGY COMMISSION (A.K.A. FERMILAB) AS DESCRIBED BY DOCUMENT NO. R69-12012 RECORDED MARCH 21, 1969, TO A FOUND REBAR IN CONCRETE; THENCE NORTH 00 DEGREES 46 MINUTES 59 SECONDS EAST 227.53 FEET (227.38 RECORD) ALONG A DIVISION LINE DESCRIBED BY SAID DOCUMENT NO. R69-12012, TO A FOUND REBAR IN CONCRETE; THENCE NORTH 64 DEGREES 57 MINUTES 04 SECONDS EAST 4704.36 FEET, ALONG SAID NORTHERLY LINE OF THE UNITED STATES ATOMIC ENERGY COMMISSION (A.K.A. FERMILAB) SAID NORTHERLY LINE, ALSO BEING DESCRIBED BY DOCUMENT NO. R69-15549 RECORDED APRIL 14, 1969, TO A POINT ON THE WESTERLY LINE OF PARCEL 2 IN RAY W. McDONALD CANTERBURY ASSESSMENT PLAT, ACCORDING TO THE PLAT THEREOF RECORDED FEBRUARY 10, 1978 AS DOCUMENT NO. R78-12409; THENCE NORTH 00 DEGREES 00 MINUTES 58 SECONDS WEST 725.08 FEET, ALONG SAID WESTERLY LINE TO A POINT ON THE SOUTHERLY RIGHT OF WAY LINE OF FABYAN PARKWAY (A.K.A. BARTON ROAD AND DUPAGE COUNTY HIGHWAY 21) AS CONDEMNED BY DOCUMENT NO'S. 70J-3066 AND 70J-3009; THENCE WESTERLY ALONG SAID RIGHT OF WAY LINE, BEING A TANGENTIAL CURVE CONCAVE TO THE NORTHWEST, RADIUS 1492.40 FEET, CENTRAL ANGLE 34 DEGREES 02 MINUTES 34 SECONDS, 886.72 FEET, THE CENTER OF SAID CIRCLE BEARS NORTH 39 DEGREES 25 MINUTES 37 SECONDS WEST (THE CHORD BEARS SOUTH 67 DEGREES 35 MINUTES 40 SECONDS WEST 873.73 FEET); THENCE SOUTH 85 DEGREES 47 MINUTES 23 SECONDS WEST 244.90 FEET (245.09 RECORD) ALONG SAID RIGHT OF WAY LINE, SAID COURSE BEING A LINE NON TANGENT TO SAID CURVE; THENCE NORTH 86 DEGREES 13 MINUTES 26 SECONDS WEST 246.10 FEET, ALONG SAID RIGHT OF WAY LINE TO A POINT ON THE CENTERLINE OF McCHESNEY ROAD, BEING ORIGINALLY DEDICATED APRIL 30, 1842, IN BOOK “A” PAGE 128 OF THE WINFIELD TOWNSHIP ROAD RECORDS (NOW VACATED PER DOCUMENT NO. R95-177561, RECORDED DECEMBER 15, 1995); THENCE NORTH 07 DEGREES 36 MINUTES 07 SECONDS WEST 25.45 FEET, ALONG SAID CENTERLINE, SAID CENTERLINE ALSO, BEING THE SAID RIGHT OF WAY LINE; THENCE NORTH 85 DEGREES 57 MINUTES 05 SECONDS WEST 3213.47 FEET, ALONG SAID RIGHT OF WAY LINE, BEING ALSO, DEDICATED AND DESCRIBED BY DOCUMENT NO. R70-33932 RECORDED SEPTEMBER 21, 1970 AND BY CONDEMNATION CASE FILED AS C70-1716 IN THE DUPAGE CIRCUIT COURT, TO A POINT ON A 9499.31 FEET RADIUS CURVE, THE CENTER OF SAID BEARS SOUTH 03 DEGREES 38 MINUTES 59 SECONDS WEST FROM SAID POINT; THENCE WESTERLY ALONG SAID CURVE AND RIGHT OF WAY LINE, 615.71 FEET, CENTRAL ANGLE 03 DEGREES 42 MINUTES 49 SECONDS (THE CHORD BEARS NORTH 88 DEGREES 12 MINUTES 25 SECONDS WEST 615.60 FEET); THENCE NORTH 89 DEGREES 44 MINUTES 38 SECONDS WEST ALONG SAID RIGHT OF WAY LINE, BEING A LINE NON TANGENT TO SAID CURVE 1103.02 FEET (1102.96 RECORD), TO A POINT ON THE WEST LINE SOUTHWEST QUARTER OF SAID SECTION 7; THENCE SOUTH 00 DEGREES 19 MINUTES 53 SECONDS WEST 279.64 FEET, ALONG SAID WEST LINE AND THE WEST LINE OF THE NORTHWEST QUARTER OF SAID SECTION 18 TO A CAST IRON MONUMENT MARKING THE NORTHEAST CORNER OF THE NORTHEAST QUARTER OF SECTION 13, TOWNSHIP 39 NORTH, RANGE 8 EAST OF THE THIRD PRINCIPAL MERIDIAN IN KANE COUNTY, ILLINOIS, PER DOCUMENT NO. S-84-45 RECORDED SEPTEMBER 10, 1984 IN DUPAGE COUNTY, ILLINOIS; THENCE SOUTH 00 DEGREES 03 MINUTES 04 SECONDS EAST 2636.99 FEET, ALONG SAID WEST LINE OF THE NORTHWEST QUARTER, TO THE POINT OF BEGINNING.

EXCEPTING THEREFROM DUPAGE NATIONAL TECHNOLOGY PARK—SOUTH ASSESSMENT PLAT LOT 2, BEING PART OF THE SOUTHWEST QUARTER OF SECTION 7 AND THE NORTH HALF OF SECTION 18, ALL IN TOWNSHIP 39 NORTH, RANGE 9 EAST OF THE THIRD PRINCIPAL MERIDIAN, ACCORDING TO THE PLAT THEREOF RECORDED OCTOBER 10, 2007 AS DOCUMENT NUMBER R2007-184627, IN DUPAGE COUNTY, ILLINOIS.

ALSO EXCEPTING,

THAT PART OF SECTION'S 8, 17 AND 18 IN TOWNSHIP 39 NORTH, RANGE 9 EAST OF THE THIRD PRINCIPAL MERIDIAN IN DUPAGE COUNTY, ILLINOIS, DESCRIBED AS FOLLOWS: COMMENCING AT THE FOUND CAST IRON MONUMENT MARKING THE WEST QUARTER CORNER OF SAID SECTION 18, PER DOCUMENT NO. 1633400, RECORDED MARCH 23, 1983 IN KANE COUNTY, ILLINOIS; THENCE EASTERLY ALONG THE EAST—WEST CENTERLINE OF SAID SECTION 18, HAVING AN ILLINOIS EAST ZONE GRID BEARING OF NORTH 89 DEGREES 06 MINUTES 02 SECONDS EAST 1959.41 FEET (1950.30 RECORD), ALONG SAID EAST—WEST CENTERLINE, SAID LINE ALSO BEING THE NORTHERLY LINE OF BATAVIA BUSINESS PARK SUBDIVISION RECORDED JUNE 30, 2000 AS DOCUMENT NO. R2000-099708, AND THE NORTHERLY LINE OF THE LANDS OF THE UNITED STATES ATOMIC ENERGY COMMISSION (A.K.A. FERMILAB) AS DESCRIBED BY DOCUMENT NO. R69-12012 RECORDED MARCH 21, 1969, TO A FOUND REBAR IN CONCRETE; THENCE NORTH 00 DEGREES 46 MINUTES 59 SECONDS EAST 227.53 FEET (227.38 RECORD) ALONG A DIVISION LINE DESCRIBED BY SAID DOCUMENT NO. R69-12012, TO A FOUND REBAR IN CONCRETE; THENCE NORTH 64 DEGREES 57 MINUTES 04 SECONDS EAST 1493.07 FEET, ALONG SAID NORTHERLY LINE OF THE UNITED STATES ATOMIC ENERGY COMMISSION (A.K.A. FERMILAB) SAID NORTHERLY LINE, ALSO, BEING DESCRIBED BY DOCUMENT NO. R69-15549 RECORDED APRIL 14, 1969 TO THE SOUTHEASTERLY CORNER OF DUPAGE NATIONAL TECHNOLOGY PARK—SOUTH ASSESSMENT PLAT LOT 2, BEING PART OF THE SOUTHWEST QUARTER OF SECTION 7 AND THE NORTH HALF OF SECTION 18, ALL IN TOWNSHIP 39 NORTH, RANGE 9 EAST OF THE THIRD PRINCIPAL MERIDIAN, ACCORDING TO THE PLAT THEREOF RECORDED OCTOBER 10, 2007 AS DOCUMENT NUMBER R2007-184627, SAID SOUTHEASTERLY CORNER BEING THE POINT OF BEGINNING; THENCE CONTINUING NORTH 64 DEGREES 57 MINUTES 04 SECONDS EAST 3211.29 FEET, ALONG SAID NORTHERLY LINE TO A POINT ON THE WESTERLY LINE OF PARCEL 2 IN RAY W. McDONALD CANTERBURY ASSESSMENT PLAT, ACCORDING TO THE PLAT THEREOF RECORDED FEBRUARY 10, 1978 AS DOCUMENT NO. R78-12409; THENCE NORTH 00 DEGREES 00 MINUTES 58 SECONDS WEST 725.08 FEET, ALONG SAID WESTERLY LINE TO A POINT ON THE SOUTHERLY RIGHT OF WAY LINE OF FABYAN PARKWAY (A.K.A. BARTON ROAD AND DUPAGE COUNTY HIGHWAY 21) AS CONDEMNED BY DOCUMENT NO'S. 70J-3066 AND 70J-3009; THENCE WESTERLY ALONG SAID RIGHT OF WAY LINE, BEING A TANGENTIAL CURVE CONCAVE TO THE NORTHWEST, RADIUS 1492.40 FEET, CENTRAL ANGLE 34 DEGREES 02 MINUTES 34 SECONDS, 886.72 FEET, THE CENTER OF SAID CIRCLE BEARS NORTH 39 DEGREES 25 MINUTES 37 SECONDS WEST (THE CHORD BEARS SOUTH 67 DEGREES 35 MINUTES 40 SECONDS WEST 873.73 FEET); THENCE SOUTH 85 DEGREES 47 MINUTES 23 SECONDS WEST 244.90 FEET (245.09 RECORD) ALONG SAID RIGHT OF WAY LINE, SAID COURSE BEING A LINE NON TANGENT TO SAID CURVE; THENCE NORTH 86 DEGREES 13 MINUTES 26 SECONDS WEST 246.10 FEET, ALONG SAID RIGHT OF WAY LINE TO A POINT ON THE CENTERLINE OF McCHESNEY ROAD, BEING ORIGINALLY DEDICATED APRIL 30, 1842, IN BOOK “A” PAGE 128 OF THE WINFIELD TOWNSHIP ROAD RECORDS (NOW VACATED PER DOCUMENT NO. R95-177561, RECORDED DECEMBER 15, 1995); THENCE SOUTH 07 DEGREES 36 MINUTES 07 SECONDS EAST 189.47 FEET, ALONG SAID CENTERLINE; THENCE NORTH 84 DEGREES 53 MINUTES 25 SECONDS WEST 1149.25 FEET; THENCE SOUTH 69 DEGREES 29 MINUTES 24 SECONDS WEST 237.26 FEET; THENCE NORTH 88 DEGREES 03 MINUTES 16 SECONDS WEST 923.49 FEET; THENCE SOUTH 09 DEGREES 07 MINUTES 39 SECONDS WEST 68.87 FEET TO A POINT ON THE NORTHERLY LINE OF SAID DUPAGE NATIONAL TECHNOLOGY PARK—SOUTH ASSESSMENT PLAT LOT 2, SAID NORTHERLY LINE BEING A 2184.40 FEET RADIUS CURVE, CONCAVE SOUTHERLY; THENCE EASTERLY ALONG SAID NORTHERLY LINE AN ARC DISTANCE OF 64.21 FEET (THE CHORD BEARS NORTH 89 DEGREES 03 MINUTES 59 SECONDS EAST 64.21 FEET) TO THE NORTHEASTERLY CORNER OF SAID DUPAGE NATIONAL TECHNOLOGY PARK—SOUTH ASSESSMENT PLAT LOT 2; THENCE SOUTHERLY ALONG THE EASTERLY LINE OF SAID DUPAGE NATIONAL TECHNOLOGY PARK—SOUTH ASSESSMENT PLAT LOT 2, BEING A 1295.98 FEET RADIUS CURVE, CONCAVE EASTERLY AN ARC DISTANCE OF 322.53 FEET (THE CHORD BEARS SOUTH 10 DEGREES 33 MINUTES 16 SECONDS WEST 321.70 FEET); THENCE SOUTH 08 DEGREES 59 MINUTES 17 SECONDS WEST 210.74 FEET ALONG SAID EASTERLY LINE TO A POINT ON A 2262.61 FEET RADIUS CURVE, CONCAVE EASTERLY, SAID CURVE BEING SAID EASTERLY LINE; THENCE SOUTHERLY ALONG SAID EASTERLY LINE AN ARC DISTANCE OF 1254.97 FEET (THE CHORD BEARS SOUTH 34 DEGREES 27 MINUTES 05 SECONDS EAST 1238.95 FEET) TO THE POINT OF BEGINNING.

Said Parcel contains 148.4 acres, more or less.

Parcel B

THAT PART OF SECTION 7 AND 8 IN TOWNSHIP 39 NORTH, RANGE 9 EAST OF THE THIRD PRINCIPAL MERIDIAN IN DUPAGE COUNTY, ILLINOIS, DESCRIBED AS FOLLOWS: BEGINNING AT THE FOUND CAST IRON MONUMENT MARKING THE EAST QUARTER CORNER OF SECTION 12, TOWNSHIP 39 NORTH, RANGE 8, EAST OF THE THIRD PRINCIPAL MERIDIAN IN KANE COUNTY, ILLINOIS, PER DOCUMENT NO. 1633402, RECORDED MARCH 23, 1983 IN KANE COUNTY, ILLINOIS; THENCE NORTHERLY ALONG THE WEST LINE OF SAID SECTION 7, HAVING A ILLINOIS EAST ZONE GRID BEARING OF NORTH 00 DEGREES 02 MINUTES 50 SECONDS EAST 1871.87 FEET ALONG SAID WEST LINE TO A POINT ON THE SOUTHERLY RIGHT OF WAY LINE OF THE CHICAGO AND NORTHWESTERN RAILROAD; THENCE NORTH 88 DEGREES 49 MINUTES 28 SECONDS EAST 313.31 FEET, TO A POINT ON THE SOUTHERLY RIGHT OF WAY LINE OF ROOSEVELT ROAD (A.K.A. IL. ROUTE 38 AND U.S. HIGHWAY 330) AS DEDICATED AND DESCRIBED BY DOCUMENT NO. 830737, RECORDED JANUARY 25, 1957; THENCE SOUTH 76 DEGREES 14 MINUTES 43 SECONDS EAST 747.67 FEET, ALONG SAID SOUTHERLY RIGHT OF WAY LINE OF ROOSEVELT ROAD; THENCE NORTH 13 DEGREES 45 MINUTES 17 SECONDS EAST 20.00 FEET, ALONG SAID RIGHT OF WAY LINE; THENCE SOUTH 76 DEGREES 14 MINUTES 43 SECONDS EAST 344.98 FEET, ALONG SAID RIGHT OF WAY LINE; THENCE SOUTH 13 DEGREES 45 MINUTES 17 SECONDS WEST 15.00 FEET, ALONG SAID RIGHT OF WAY LINE; THENCE SOUTH 76 DEGREES 14 MINUTES 43 SECONDS EAST 389.53 FEET, ALONG SAID RIGHT OF WAY LINE; THENCE SOUTH 00 DEGREES 01 MINUTES 39 SECONDS WEST 5.15 FEET, ALONG SAID RIGHT OF WAY LINE; THENCE SOUTH 76 DEGREES 14 MINUTES 43 SECONDS EAST 364.77 FEET, ALONG THE SOUTHERLY RIGHT OF WAY LINE OF SAID ROOSEVELT ROAD, AS DESCRIBED BY DOCUMENT NO. R88-32025 RECORDED APRIL 4, 1988 TO A POINT ON A 9350.88 FEET RADIUS CURVE, THE CENTER OF SAID BEARS SOUTH 13 DEGREES 42 MINUTES 56 SECONDS WEST FROM SAID POINT; THENCE EASTERLY ALONG SAID CURVE AND RIGHT OF WAY LINE, 723.44 FEET, CENTRAL ANGLE 04 DEGREES 25 MINUTES 58 SECONDS (THE CHORD BEARS SOUTH 74 DEGREES 04 MINUTES 05 SECONDS EAST 723.26 FEET) TO A FOUND IRON PIPE; THENCE SOUTH 71 DEGREES 51 MINUTES 06 SECONDS EAST ALONG SAID RIGHT OF WAY LINE NOT TANGENT TO SAID CURVE 1494.71 FEET, TO THE NORTHWEST CORNER OF LOT 1 IN R.J. SUBDIVISION, ACCORDING TO THE PLAT THEREOF RECORDED FEBRUARY 22, 1996 AS DOCUMENT NO. R96-27892, SAID NORTHWEST CORNER BEING A POINT ON THE EAST LINE OF LOT 3 IN CLARENCE ROLLAND'S ASSESSMENT PLAT, ACCORDING TO THE PLAT THEREOF RECORDED FEBRUARY 03, 1947 AS DOCUMENT NO. 515097; THENCE SOUTH 06 DEGREES 00 MINUTES 06 SECONDS WEST 545.52 FEET, ALONG THE WEST LINE OF SAID LOT 1 TO THE SOUTHWEST CORNER OF SAID LOT 1, SAID SOUTHWEST CORNER BEING A POINT ON THE SOUTHERLY LINE OF SAID R.J. SUBDIVISION, CLARENCE ROLLAND'S ASSESSMENT PLAT AND ALSO, BEING THE NORTHERLY LINE OF TRACT 1 IN HATTENDORF'S PLAT OF SURVEY, ACCORDING TO THE PLAT THEREOF RECORDED MARCH 30, 1964 AS DOCUMENT NO. R64-10011; THENCE SOUTH 87 DEGREES 05 MINUTES 44 SECONDS EAST 744.73 FEET, ALONG SAID SOUTHERLY LINE TO THE SOUTHEASTERLY CORNER OF LOT 1 IN SAID CLARENCE ROLLAND'S ASSESSMENT PLAT, SAID SOUTHEASTERLY CORNER BEING ALSO, BEING THE SOUTHWESTERLY CORNER OF LOT 2 IN KAELIN'S ASSESSMENT PLAT, ACCORDING TO THE PLAT THEREOF RECORDED SEPTEMBER 17, 1958 AS DOCUMENT NO. 895011 AND THE NORTHWESTERLY CORNER OF LOT 1 IN HAFFEY'S ASSESSMENT PLAT ACCORDING TO THE PLAT THEREOF RECORDED AUGUST 10, 1966 AS DOCUMENT NO. R66-31487; THENCE NORTH 06 DEGREES 04 MINUTES 07 SECONDS EAST 187.14 FEET, ALONG THE WESTERLY LINE OF LOT 2 IN SAID KAELIN'S ASSESSMENT PLAT, SAID WESTERLY LINE ALSO, BEING THE EASTERLY LINE OF LOT 1 IN SAID CLARENCE ROLLAND'S ASSESSMENT PLAT, TO THE NORTHWESTERLY CORNER OF SAID LOT 2; THENCE SOUTH 80 DEGREES 24 MINUTES 36 SECONDS EAST 33.06 FEET, ALONG THE NORTHERLY LINE OF SAID LOT 2, TO A POINT ON THE EASTERLY RIGHT OF WAY LINE OF KRESS ROAD, AS DEDICATED BY SAID DOCUMENT NO. 895011, SAID EASTERLY LINE ALSO, BEING THE WESTERLY LINE OF LOT 1 IN SAID KAELIN'S ASSESSMENT PLAT; THENCE NORTH 06 DEGREES 04 MINUTES 07 SECONDS EAST 163.19 FEET, ALONG SAID EASTERLY RIGHT OF WAY LINE TO A POINT ON THE SOUTHERLY RIGHT OF WAY LINE OF ROOSEVELT ROAD AS DEDICATED AND DESCRIBED BY DOCUMENT NO.314776, RECORDED JULY 10, 1931, SAID SOUTHERLY RIGHT OF WAY LINE ALSO, BEING THE NORTHERLY LINE OF SAID LOT 1 AND THE NORTHERLY LINE OF LOT 1 IN A.J. FREY'S PLAT OF SURVEY, ACCORDING TO THE PLAT THEREOF RECORDED JULY 29, 1948 AS DOCUMENT NO. 548319; THENCE SOUTH 71 DEGREES 51 MINUTES 06 MINUTES EAST 498.48 FEET, ALONG SAID SOUTHERLY RIGHT OF WAY LINE; THENCE SOUTHEASTERLY ALONG A TANGENTIAL CURVE CONCAVE TO THE NORTH, RADIUS 12,782.43 FEET, CENTRAL ANGLE 00 DEGREES 16 MINUTES 40 SECONDS, 61.97 FEET (THE CHORD BEARS SOUTH 71 DEGREES 59 MINUTES 26 SECONDS EAST 61.97 FEET) TO A POINT ON THE WESTERLY RIGHT OF WAY LINE OF McCHESNEY ROAD, BEING A ROAD 4 RODS (66.00 FEET) WIDE AS ORIGINALLY DEDICATED APRIL 30, 1842, IN BOOK “A” PAGE 128 OF THE WINFIELD TOWNSHIP ROAD RECORDS, SAID WESTERLY LINE ALSO, BEING THE EASTERLY LINE OF SAID LOT 1 OF A.J. FREY'S PLAT OF SURVEY; THENCE SOUTH 22 DEGREES 22 MINUTES 51 SECONDS WEST 213.13 FEET (220.35 RECORD), ALONG SAID WESTERLY RIGHT OF WAY LINE TO THE SOUTHEASTERLY CORNER OF SAID LOT 1, SAID SOUTHEASTERLY CORNER BEING A POINT ON THE NORTHERLY LINE OF SAID HAFFEY'S ASSESSMENT PLAT; THENCE NORTH 86 DEGREES 51 MINUTES 13 SECONDS WEST 18.01 FEET, ALONG SAID NORTHERLY LINE TO A POINT ON THE WESTERLY RIGHT OF WAY LINE OF AS DEDICATED BY SAID DOCUMENT NO. R66-31487; THENCE SOUTH 22 DEGREES 22 MINUTES 51 SECONDS WEST 191.07 FEET, ALONG SAID RIGHT OF WAY LINE, TO A POINT ON THE SOUTHERLY LINE OF SAID HAFFEY'S ASSESSMENT PLAT; THENCE SOUTH 86 DEGREES 47 MINUTES 58 SECONDS EAST 18.00 FEET, ALONG SAID SOUTHERLY LINE, TO A POINT ON THE WESTERLY RIGHT OF WAY LINE OF SAID ORIGINAL McCHESNEY ROAD; THENCE SOUTH 22 DEGREES 22 MINUTES 51 SECONDS WEST 441.65 FEET, ALONG SAID RIGHT OF WAY LINE TO THE NORTHWESTERLY CORNER OF VACATED McCHESNEY ROAD, PER DOCUMENT NO. R95-177561, RECORDED DECEMBER 15, 1995; THENCE SOUTH 67 DEGREES 37 MINUTES 09 SECONDS EAST 33.00 FEET, ALONG THE NORTHERLY LINE OF SAID VACATED McCHESNEY ROAD, TO A POINT ON THE CENTERLINE OF SAID ORIGINAL McCHESNEY ROAD; THENCE NORTH 89 DEGREES 59 MINUTES 02 SECONDS EAST 987.34 FEET (985.04 RECORD) ALONG THE NORTH LINE OF PARCEL “E-2” AS DESCRIBED AND PLATTED BY DOCUMENT NO. R88-008915, RECORDED JANUARY 26, 1988, TO THE WESTERLY LINE OF PARCEL 4 IN RAY W. McDONALD CANTERBURY ASSESSMENT PLAT, ACCORDING TO THE PLAT THEREOF RECORDED FEBRUARY 10, 1978 AS DOCUMENT NO. R78-12409; THENCE SOUTH 00 DEGREES 00 MINUTES 58 SECONDS EAST 1705.71 FEET TO A POINT ON THE NORTHERLY RIGHT OF WAY LINE OF FABYAN PARKWAY (A.K.A. BARTON ROAD AND DUPAGE COUNTY HIGHWAY 21) AS CONDEMNED BY DOCUMENT NO'S. 70J-3066 AND 70J-3009; THENCE WESTERLY ALONG SAID RIGHT OF WAY LINE, BEING A TANGENTIAL CURVE CONCAVE TO THE NORTHWEST, RADIUS 1372.40 FEET, CENTRAL ANGLE 38 DEGREES 17 MINUTES 20 SECONDS, 917.13 FEET, THE CENTER OF SAID CIRCLE BEARS NORTH 43 DEGREES 40 MINUTES 37 SECONDS WEST (THE CHORD BEARS SOUTH 65 DEGREES 28 MINUTES 03 SECONDS WEST 900.16 FEET); THENCE NORTH 86 DEGREES 52 MINUTES 07 SECONDS WEST 223.03 FEET (222.92 RECORD) ALONG SAID RIGHT OF WAY LINE, SAID COURSE BEING A LINE NON TANGENT TO SAID CURVE; THENCE NORTH 86 DEGREES 13 MINUTES 26 SECONDS WEST 231.70 FEET, ALONG SAID RIGHT OF WAY LINE TO A POINT ON THE EASTERLY RIGHT OF WAY LINE OF SAID ORIGINAL McCHESNEY ROAD; THENCE NORTH 01 DEGREES 26 MINUTES 47 SECONDS EAST 122.13 FEET, ALONG SAID EASTERLY RIGHT OF WAY LINE TO THE SOUTHEASTERLY CORNER OF SAID VACATED McCHESNEY ROAD; THENCE NORTH 88 DEGREES 33 MINUTES 13 SECONDS WEST 66.00 FEET, ALONG THE SOUTHERLY LINE OF SAID VACATED McCHESNEY ROAD, TO A POINT ON THE WESTERLY RIGHT OF WAY LINE OF SAID ORIGINAL McCHESNEY ROAD; THENCE SOUTH 01 DEGREES 26 MINUTES 47 SECONDS WEST 144.30 FEET, TO A POINT ON THE NORTHERLY RIGHT OF WAY LINE OF FABYAN PARKWAY AS DEDICATED AND DESCRIBED BY DOCUMENT NO. R71-28358 RECORDED JUNE 23, 1971; THENCE NORTH 85 DEGREES 57 MINUTES 05 SECONDS WEST 2770.99 FEET, ALONG SAID NORTHERLY RIGHT OF WAY LINE, ALSO BEING DEDICATED AND DESCRIBED BY DOCUMENT NO. R71-28360 RECORDED JUNE 23, 1971, DOCUMENT NO. R71-27774 RECORDED JUNE 21, 1971 AND DOCUMENT NO. R70-24257 RECORDED JULY 17, 1970, TO A POINT ON THE EASTERLY LINE OF LOT 2 IN HAFFEY'S PLAT OF SURVEY ACCORDING TO THE PLAT THEREOF RECORDED AS DOCUMENT NO. 601320; THENCE NORTH 86 DEGREES 24 MINUTES 12 SECONDS WEST 488.08 FEET, ALONG THE NORTHERLY RIGHT OF WAY LINE OF FABYAN PARKWAY, AS DEDICATED AND DESCRIBED BY DOCUMENT NO. R70-33933, RECORDED SEPTEMBER 21, 1970, TO A POINT ON THE WESTERLY LINE OF SAID LOT 2, SAID POINT ALSO, BEING THE SOUTHEASTERLY CORNER OF LOT 3 IN PAYTON'S SUBDIVISION, ACCORDING TO THE PLAT THEREOF RECORDED JANUARY 21, 1959 AS DOCUMENT NO. 909951; THENCE NORTH 85 DEGREES 39 MINUTES 52 SECONDS WEST 873.89 FEET, ALONG THE SOUTHERLY LINE OF SAID PAYTON'S SUBDIVISION, SAID SOUTHERLY LINE ALSO, BEING THE ORIGINAL NORTHERLY RIGHT OF WAY LINE OF BARTON ROAD AS DEDICATED MARCH 19, 1851 IN THE WINFIELD TOWNSHIP BOOK OF ROAD RECORDS, SAID NORTHERLY RIGHT OF WAY LINE BEING DEDICATED AND DESCRIBED BY DOCUMENT NO. R71-28359, RECORDED JUNE 23, 1971; THENCE SOUTH 85 DEGREES 12 MINUTES 58 SECONDS WEST 542.06 FEET, ALONG SAID NORTHERLY RIGHT OF WAY LINE; THENCE NORTH 89 DEGREES 44 MINUTES 38 SECONDS WEST 87.00 FEET, TO A POINT ON A LINE 135.00 FEET EAST OF AND PARALLEL TO THE WEST LINE OF THE SOUTHWEST QUARTER OF SAID SECTION 7; THENCE NORTH 00 DEGREES 19 MINUTES 53 SECONDS EAST 799.82 FEET (799.84 RECORD), ALONG SAID PARALLEL LINE; THENCE NORTH 89 DEGREES 40 MINUTES 07 SECONDS WEST 135.00 FEET, TO A POINT ON THE WEST LINE OF SAID SOUTHWEST QUARTER; THENCE NORTH 00 DEGREES 19 MINUTES 53 SECONDS EAST 1455.98 FEET (1456.15 RECORD), ALONG SAID WEST LINE, TO THE POINT OF BEGINNING.

EXCEPTING THEREFROM DUPAGE NATIONAL TECHNOLOGY PARK—NORTH ASSESSMENT PLAT LOT 3, BEING PART OF THE NORTHWEST QUARTER OF SECTION 7, TOWNSHIP 39 NORTH, RANGE 9 EAST OF THE THIRD PRINCIPAL MERIDIAN, ACCORDING TO THE PLAT THEREOF RECORDED OCTOBER 10, 2007 AS DOCUMENT NUMBER R2007-184625; EXCEPT THAT PART LYING NORTH OF THE FOLLOWING DESCRIBED LINE:

COMMENCING AT THE NORTHWEST CORNER OF SAID LOT 3; THENCE SOUTH 00 DEGREES 18 MINUTES 30 SECONDS WEST (BEING AN ASSUMED BEARING) ALONG THE WEST LINE OF SAID LOT 3 A DISTANCE OF 48.91 FEET, TO THE POINT OF BEGINNING; THENCE SOUTH 79 DEGREES 44 MINUTES 05 SECONDS EAST, TO A POINT ON THE EAST LINE OF SAID LOT 3 ALSO BEING THE WEST LINE OF TECHNOLOGY BOULEVARD DEDICATED PER DOCUMENT NUMBER R2007-131936, SAID POINT LYING 13.17 FEET SOUTH OF THE POINT OF COMPOUND CURVATURE OF SAID TECHNOLOGY BOULEVARD; SAID POINT ALSO BEING THE POINT OF TERMINUS, IN DUPAGE COUNTY, ILLINOIS.

ALSO EXCEPTING, DUPAGE NATIONAL TECHNOLOGY PARK—NORTH ASSESSMENT PLAT LOT 4, BEING PART OF THE EAST HALF OF SECTION 7, TOWNSHIP 39 NORTH, RANGE 9 EAST OF THE THIRD PRINCIPAL MERIDIAN, ACCORDING TO THE PLAT THEREOF RECORDED OCTOBER 10, 2007 AS DOCUMENT NUMBER R2007-184624, IN DUPAGE COUNTY, ILLINOIS.

ALSO EXCEPTING, DUPAGE NATIONAL TECHNOLOGY PARK—NORTH ASSESSMENT PLAT LOT 5, BEING PART OF THE SOUTHEAST QUARTER OF SECTION 7, TOWNSHIP 39 NORTH, RANGE 9 EAST OF THE THIRD PRINCIPAL MERIDIAN, ACCORDING TO THE PLAT THEREOF RECORDED OCTOBER 10, 2007 AS DOCUMENT NUMBER R2007-184620, IN DUPAGE COUNTY, ILLINOIS.

ALSO EXCEPTING, DUPAGE NATIONAL TECHNOLOGY PARK—NORTH ASSESSMENT PLAT LOT 6, BEING PART OF THE WEST HALF OF SECTION 7, TOWNSHIP 39 NORTH, RANGE 9 EAST OF THE THIRD PRINCIPAL MERIDIAN, ACCORDING TO THE PLAT THEREOF RECORDED OCTOBER 10, 2007 AS DOCUMENT NUMBER R2007-184621, IN DUPAGE COUNTY, ILLINOIS.

ALSO EXCEPTING, DUPAGE NATIONAL TECHNOLOGY PARK—NORTH ASSESSMENT PLAT LOT 7, BEING PART OF THE SOUTHWEST QUARTER OF SECTION 7, TOWNSHIP 39 NORTH, RANGE 9 EAST OF THE THIRD PRINCIPAL MERIDIAN, ACCORDING TO THE PLAT THEREOF RECORDED OCTOBER 10, 2007 AS DOCUMENT NUMBER R2007-184622, IN DUPAGE COUNTY, ILLINOIS.

ALSO EXCEPTING, DUPAGE NATIONAL TECHNOLOGY PARK—NORTH ASSESSMENT PLAT LOT 8, BEING PART OF THE SOUTHWEST QUARTER OF SECTION 7, TOWNSHIP 39 NORTH, RANGE 9 EAST OF THE THIRD PRINCIPAL MERIDIAN, ACCORDING TO THE PLAT THEREOF RECORDED OCTOBER 10, 2007 AS DOCUMENT NUMBER R2007-184626, IN DUPAGE COUNTY, ILLINOIS.

ALSO EXCEPTING, DUPAGE NATIONAL TECHNOLOGY PARK—NORTH ASSESSMENT PLAT LOT 9, BEING PART OF THE SOUTHWEST QUARTER OF SECTION 7, TOWNSHIP 39 NORTH, RANGE 9 EAST OF THE THIRD PRINCIPAL MERIDIAN, ACCORDING TO THE PLAT THEREOF RECORDED OCTOBER 10, 2007 AS DOCUMENT NUMBER R2007-184623, IN DUPAGE COUNTY, ILLINOIS.

Said Parcel contains 401.9 acres, more or less.

Parcel C

THAT PART OF SECTION 7 IN TOWNSHIP 39 NORTH, RANGE 9 EAST OF THE THIRD PRINCIPAL MERIDIAN IN DUPAGE COUNTY, ILLINOIS, DESCRIBED AS FOLLOWS: COMMENCING AT THE FOUND CAST IRON MONUMENT MARKING THE NORTHEAST CORNER OF SECTION 12, TOWNSHIP 39 NORTH, RANGE 8, EAST OF THE THIRD PRINCIPAL MERIDIAN IN KANE COUNTY, ILLINOIS, PER DOCUMENT NO. S-84-41, RECORDED SEPTEMBER, 10 1984 IN DUPAGE COUNTY, ILLINOIS; THENCE SOUTHERLY ALONG THE WEST LINE OF THE OF SAID SECTION 7, HAVING A ILLINOIS EAST ZONE GRID BEARING OF SOUTH 00 DEGREES 02 MINUTES 50 SECONDS WEST 781.46 FEET ALONG SAID WEST LINE TO A POINT ON THE SOUTHERLY RIGHT OF WAY LINE OF THE CHICAGO AND NORTHWESTERN RAILROAD; THENCE NORTH 88 DEGREES 49 MINUTES 28 SECONDS EAST 779.06 FEET ALONG SAID SOUTHERLY RIGHT OF WAY LINE, TO A POINT OF INTERSECTION WITH THE NORTHERLY RIGHT OF WAY LINE OF ROOSEVELT ROAD (A.K.A. IL. ROUTE 38 AND U.S. HIGHWAY 330) AS DEDICATED AND DESCRIBED BY DOCUMENT NO. 830737, RECORDED JANUARY 25, 1957, SAID POINT BEING THE POINT OF BEGINNING; THENCE NORTH 88 DEGREES 49 MINUTES 28 SECONDS EAST 4020.55 FEET, ALONG SAID SOUTHERLY RIGHT OF WAY LINE OF THE CHICAGO AND NORTHWESTERN RAILROAD, TO A POINT ON THE WESTERLY RIGHT OF WAY LINE OF KRESS ROAD (A.K.A. DUPAGE COUNTY HIGHWAY 18) AS DEDICATED AND DESCRIBED BY DOCUMENT NO. R96-086069 RECORDED MAY 23, 1996; THENCE SOUTH 06 DEGREES 07 MINUTES 54 SECONDS WEST 116.44 FEET, ALONG SAID WESTERLY RIGHT OF WAY LINE; THENCE SOUTH 01 DEGREES 26 MINUTES 36 SECONDS EAST 770.37 FEET, ALONG SAID RIGHT OF WAY LINE; THENCE SOUTH 10 DEGREES 13 MINUTES 33 SECONDS EAST 352.37 FEET, ALONG SAID RIGHT OF WAY LINE; THENCE SOUTH 57 DEGREES 16 MINUTES 33 SECONDS WEST 58.42 FEET (57.25 RECORD), ALONG SAID RIGHT OF WAY LINE, TO A POINT ON THE NORTHERLY LINE OF ROOSEVELT ROAD AS DEDICATED AND DESCRIBED BY DOCUMENT NO. R81-54590, RECORDED OCTOBER 7, 1981; THENCE NORTH 71 DEGREES 51 MINUTES 06 SECONDS WEST 1988.83 FEET, ALONG SAID NORTHERLY RIGHT OF WAY LINE, ALSO, BEING DEDICATED AND DESCRIBED BY DOCUMENT NO. R82-20391 RECORDED MAY 21, 1982, TO A POINT ON THE WESTERLY LINE OF BALAMENTI'S CONSOLIDATION PLAT, ACCORDING TO THE PLAT THEREOF RECORDED APRIL 23, 1958 AS DOCUMENT NO. 877324; THENCE SOUTH 12 DEGREES 22 MINUTES 16 SECONDS WEST 42.96 FEET, ALONG SAID WESTERLY LINE, TO A POINT ON THE ORIGINAL CENTERLINE OF ROOSEVELT ROAD; THENCE NORTH 72 DEGREES 07 MINUTES 12 SECONDS WEST 432.49 FEET, ALONG SAID CENTERLINE TO A POINT ON THE EASTERLY LINE OF HAFFEY'S SUBDIVISION, ACCORDING TO THE PLAT THEREOF RECORDED OCTOBER 24, 1966 AS DOCUMENT NO. R66-42232; THENCE NORTH 00 DEGREES 26 MINUTES 12 SECONDS EAST 29.90 FEET, ALONG SAID EASTERLY LINE TO THE SOUTHEAST CORNER OF LOT 1 IN SAID HAFFEY'S SUBDIVISION, SAID SOUTHEAST CORNER ALSO, BEING A POINT ON THE NORTHERLY RIGHT OF WAY LINE OF ROOSEVELT ROAD, SAID POINT BEING ON A 9460.88 FEET RADIUS CURVE, THE CENTER OF SAID BEARS SOUTH 16 DEGREES 03 MINUTES 35 SECONDS WEST FROM SAID POINT; THENCE WESTERLY ALONG SAID CURVE AND RIGHT OF WAY LINE, 200.50 FEET, CENTRAL ANGLE 01 DEGREES 12 MINUTES 51 SECONDS (THE CHORD BEARS NORTH 74 DEGREES 32 MINUTES 51 SECONDS WEST 200.50 FEET), TO A POINT ON THE WESTERLY LINE OF SAID LOT 1; THENCE NORTH 00 DEGREES 25 MINUTES 08 SECONDS EAST 10.67 FEET, ALONG SAID WESTERLY LINE, SAID WESTERLY LINE BEING A NON RADIAL LINE TO SAID CURVE, TO A POINT ON THE NORTHERLY RIGHT OF WAY LINE OF ROOSEVELT ROAD AS DEDICATED AND DESCRIBED BY DOCUMENT NO. R81-54588 RECORDED OCTOBER 7, 1981; THENCE WESTERLY ALONG SAID NORTHERLY RIGHT OF WAY LINE BEING A CURVE 10.00 FEET NORTHERLY OF AND PARALLEL TO THE LAST DESCRIBED CURVE, RADIUS 9470.88 FEET, 184.09 FEET (THE CHORD BEARS NORTH 75 DEGREES 43 MINUTES 37 SECONDS WEST 184.09); THENCE NORTH 76 DEGREES 14 MINUTES 43 SECONDS WEST 1398.13 FEET, ALONG SAID NORTHERLY RIGHT OF WAY LINE OF ROOSEVELT ROAD, BEING A LINE NOT TANGENT TO SAID CURVE, AND SAID LINE ALSO, BEING DEDICATED BY DOCUMENT NO. R81-54585 RECORDED OCTOBER 7, 1981 AND SAID DOCUMENT NO. 830737, TO THE POINT OF BEGINNING.

Said Parcel contains 55.0 acres, more or less.

Issued in Des Plaines, Illinois, on December 20, 2011.
Jim Keefer,
Manager, Chicago Airports District Office, FAA, Great Lakes Region.

[FR Doc. 2011-33465 Filed 12-28-11; 8:45 am]

BILLING CODE 4910-13-P